DEPARTMENT OF LABOR

Occupational Safety and Health Administration

[Docket No. OSHA-2007-0039]

Intertek Testing Services NA, Inc.; Expansion of Recognition

AGENCY: Occupational Safety and Health Administration (OSHA), Labor.

ACTION: Notice.

SUMMARY: This notice announces the Occupational Safety and Health Administration's final decision expanding the recognition of Intertek Testing Services NA, Inc., (ITSNA) as a Nationally Recognized Testing Laboratory under 29 CFR 1910.7.

DATES: The expansion of recognition becomes effective on August 29, 2008.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice that it is expanding recognition of Intertek Testing Services NA, Inc., (ITSNA) as a Nationally Recognized Testing Laboratory (NRTL). ITSNA's expansion covers the use of additional test standards. OSHA's current scope of recognition for ITSNA may be found in the following informational Web page: http://www.osha.gov/dts/otpca/nrtl/its.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products approved by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages can be accessed from the Web site at http://www.osha.gov/dts/otpca/nrtl/index.html.

In an earlier action involving ITSNA, OSHA issued a Federal Register notice modifying its recognition, along with the recognition of other NRTLs, by replacing or deleting test standards that standards-developing organizations previously revised or withdrew (70 FR 11273, March 8, 2005). In a subsequent Federal Register notice, OSHA granted ITSNA's most recent application, which was for an expansion of recognition (68 FR 62479, November 4, 2003).

ITSNA submitted an application, dated August 25, 2005, (see Exhibit 48-1, as cited in the preliminary notice) to expand its recognition to include 56 additional test standards. One standard, however, is already included in ITSNA's scope and another has been withdrawn by the standards-developing organization. The NRTL Program staff has determined that the remaining 54 standards are “appropriate test standards” within the meaning of 29 CFR 1910.7(c). In connection with the expansion, OSHA staff performed an onsite visit of the NRTL's Cortland site (its headquarters facility) in May 2006. Based on this visit, the staff recommends expansion of the ITSNA recognition to include the 54 test standards (see Exhibit 48-4). Therefore, OSHA is approving these 54 test standards for the expansion.

Based on this review, OSHA published a preliminary notice announcing the expansion application in the Federal Register on January 28, 2008 (73 FR 4919). Comments were requested by February 12, 2008, but no comments were received in response to this notice. OSHA is now proceeding with this final notice to grant ITSNA's expansion application.

You may obtain or review copies of all public documents pertaining to the ITSNA application by contacting the Docket Office, Occupational Safety and Health Administration, U.S. Department of Labor, 200 Constitution Avenue, NW., Room N-2625, Washington, DC, 20210. Docket No. OSHA-2007-0039 (formerly NRTL1-89) contains all materials in the record concerning ITSNA's recognition.

The current addresses of the ITSNA facilities (sites) already recognized by OSHA are:

ITSNA, Inc., 3933 U.S. Route 11, Cortland, New York 13045;

ITSNA, Inc., 1950 Evergreen Boulevard, Duluth, Georgia 30096;

ITSNA, Inc., 1365 Adams Court, Menlo Park, California 94025;

ITSNA, Inc., 70 Codman Hill Road, Boxborough, Massachusetts 01719;

ITSNA, Inc., 27611 LaPaz Road, Suite C, Laguna Niguel, California 92677;

ITSNA, Inc., 8431 Murphy Drive, Middleton, Wisconsin 53562;

ITSNA, Inc., 7250 Hudson Blvd., Suite 100, Oakdale, Minnesota 55128;

ITSNA, Inc., 40 Commerce Way, Unit B, Totowa, New Jersey 07512;

ITSNA, Inc., 731 Enterprise Drive, Lexington, Kentucky 40510;

ITSNA Ltd., 1500 Brigantine Drive, Coquitlam, British Columbia V3K 7C1, Canada;

ITS Hong Kong Ltd., 2/F., Garment Centre, 576 Castle Peak Road, Kowloon, Hong Kong;

ITS Taiwan Ltd., 5F, No. 423, Ruiguang Rd., Neihu District, Taipei City 114, Taiwan R.O.C.; and

ITSNA Sweden AB, Box 1103, S-164 #22, Kista, Stockholm, Sweden.

Final Decision and Order

NRTL Program staff examined ITSNA's application, the assessor's recommendation, and other pertinent information. Based upon this examination and the assessor's recommendation, OSHA finds that ITSNA has met the requirements of 29 CFR 1910.7 for expansion of its recognition, subject to the limitation and conditions listed below. Pursuant to the authority in 29 CFR 1910.7, OSHA hereby expands the recognition of ITSNA, subject to this limitation and these conditions.

Limitation

OSHA limits the expansion of ITSNA's recognition to testing and certification of products for demonstration of conformance to the following test standards, each of which OSHA has determined is an appropriate test standard, within the meaning of 29 CFR 1910.7(c):

UL 5B Strut-Type Channel Raceways and Fittings

UL 10A Tin-Clad Fire Doors

UL 30 Metal Safety Cans

UL 38 Manual Signaling Boxes for Fire Alarm Systems

UL 51 Power-Operated Pumps for Anhydrous Ammonia and LP-Gas

UL 58 Steel Underground Tanks for Flammable and Combustible Liquids

UL 80 Steel Tanks for Oil-Burner Fuels and Other Combustible Liquids

UL 92 Fire Extinguisher and Booster Hose

UL 125 Valves for Anhydrous Ammonia and LP-Gas (Other Than Safety Relief)

UL 132 Safety Relief Valves for Anhydrous Ammonia and LP-Gas

UL 144 LP-Gas Regulators

UL 193 Alarm Valves for Fire-Protection Service

UL 194 Gasketed Joints for Ductile-Iron Pipe and Fittings for Fire Protection Service

UL 252 Compressed Gas Regulators

UL 268 Smoke Detectors for Fire Alarm Signaling Systems

UL 268A Smoke Detectors for Duct Application

UL 346 Waterflow Indicators for Fire Protective Signaling Systems

UL 404 Gauges, Indicating Pressure, for Compressed Gas Service

UL 441 Gas Vents

UL 452 Antenna—Discharge Units

UL 486D Sealed Wire Connector Systems

UL 495 Power-Operated Dispensing Devices for LP-Gas

UL 515 Electrical Resistance Heat Tracing for Commercial and Industrial Applications

UL 521 Heat Detectors for Fire Protective Signaling Systems

UL 539 Single and Multiple Station Heat Alarms

UL 555S Smoke Dampers

UL 568 Nonmetallic Cable Tray Systems

UL 681 Installation and Classification of Burglar and Holdup Alarm Systems

UL 943B Appliance Leakage-Current Interrupters

UL 985 Household Fire Warning System Units

UL 1053 Ground-Fault Sensing and Relaying Equipment

UL 1058 Halogenated Agent Extinguishing System Units

UL 1062 Unit Substations

UL 1093 Halogenated Agent Fire Extinguishers

UL 1254 Pre-Engineered Dry Chemical Extinguishing System Units

UL 1322 Fabricated Scaffold Planks and Stages

UL 1412 Fusing Resistors and Temperature-Limited Resistors for Radio- and Television-Type Appliances

UL 1468 Direct Acting Pressure Reducing and Pressure Restricting Valves

UL 1681 Wiring Device Configurations

UL 1730 Smoke Detector Monitors and Accessories for Individual Living Units of Multifamily Residences and Hotel/Motel Rooms

UL 2085 Protected Aboveground Tanks for Flammable and Combustible Liquids

UL 2129 Halocarbon Clean Agent Fire Extinguishers

UL 2388 Flexible Lighting Products

UL 60335-2-8 Household and Similar Electrical Appliances, Part 2: Particular Requirements for Shavers, Hair Clippers, and Similar Appliances

UL 60947-1 Low-Voltage Switchgear and Controlgear—Part 1: General Rules

UL 60947-7-1 Low-Voltage Switchgear and Controlgear—Part 7-1: Ancillary Equipment—Terminal Blocks for Copper Conductors

UL 60947-7-2 Low-Voltage Switchgear and Controlgear—Part 7-2: Ancillary Equipment—Protective Conductor Terminal Blocks for Copper Conductors

UL 60947-7-3 Low-Voltage Switchgear and Controlgear—Part 7-3: Ancillary Equipment—Safety Requirements for Fuse Terminal Blocks

UL 61010A-2-010 Electrical Equipment for Laboratory Use; Part 2: Particular Requirements for Laboratory Equipment for the Heating of Materials

UL 61010A-2-041 Electrical Equipment for Laboratory Use; Part 2: Particular Requirements for Autoclaves Using Steam for the Treatment of Medical Materials and for Laboratory Processes

UL 61010A-2-042 Electrical Equipment for Laboratory Use; Part 2: Particular Requirements for Autoclaves and Sterilizers Using Toxic Gas for the Treatment of Medical Materials, and for Laboratory Processes

UL 61010A-2-051 Electrical Equipment for Laboratory Use; Part 2: Particular Requirements for Laboratory Equipment for Mixing and Stirring

UL 61010A-2-061 Electrical Equipment for Laboratory Use; Part 2: Particular Requirements for Laboratory Atomic Spectrometers with Thermal Atomization and Ionization

UL 61010B-2-031 Electrical Equipment for Measurement, Control, and Laboratory Use; Part 2: Particular Requirements for Hand-Held Probe Assemblies for Electrical Measurement and Test

The designations and titles of the above test standards were current at the time of the preparation of this notice.

OSHA's recognition of ITSNA, or any NRTL, for a particular test standard is limited to equipment or materials (i.e., products) for which OSHA standards require third-party testing and certification before use in the workplace. Consequently, if a test standard also covers any product(s) for which OSHA does not require such testing and certification, an NRTL's scope of recognition does not include that product(s).

Test standards listed above may be approved as an American National Standard by the American National Standards Institute (ANSI). However, for convenience, we use the designation of the standards-developing organization for the standard as opposed to the ANSI designation. Under our procedures, any NRTL recognized for an ANSI-approved test standard may use either the latest proprietary version of the test standard or the latest ANSI version of that standard. You may contact ANSI to find out whether a test standard is currently ANSI-approved.

Conditions

ITSNA must also abide by the following conditions of the recognition, in addition to those conditions already required by 29 CFR 1910.7:

OSHA must be allowed access to ITSNA's facilities and records to ascertain continuing compliance with the terms of its recognition and to perform investigations as OSHA deems necessary;

If ITSNA has reason to doubt the efficacy of any test standard it is using under this program, it must promptly inform the test standard-developing organization of this concern and provide that organization with appropriate relevant information upon which its concern is based;

ITSNA must not engage in, or permit others to engage in, any misrepresentation of the scope or conditions of its recognition. As part of this condition, ITSNA agrees that it will allow no representation that it is either a recognized or an accredited Nationally Recognized Testing Laboratory (NRTL) without clearly indicating the specific equipment or material to which this recognition applies, and also clearly indicating that its recognition is limited to certain products;

ITSNA must inform OSHA as soon as possible, in writing, of any change of ownership, facilities, or key personnel, and of any major changes in its operations as an NRTL, including details of these changes;

ITSNA will meet all the terms of its recognition and will always comply with all OSHA policies pertaining to this recognition; and

ITSNA will continue to meet the requirements for recognition in all areas where it has been recognized.

Signed at Washington, DC, this 20th day of August, 2008.
Edwin G. Foulke, Jr.,
Assistant Secretary of Labor for Occupational Safety and Health.

[FR Doc. E8-20171 Filed 8-28-08; 8:45 am]

BILLING CODE 4510-26-P